DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 73766-73769, dated November 25, 2015) is amended to reflect the reorganization of the Division of Global HIV/AIDS, Center for Global Health, Centers for Disease Control and Prevention.

Section C-B, Organization and Functions, is hereby amended as follows:

Delete in its entirety the title and the mission and function statements for the Division of Global HIV/AIDS (CWG) and insert the following:

Division of Global HIV and TB (CWG). The Division of Global HIV and TB (DGHT) provides technical assistance to host governments, working through its strong partnerships with Ministries of Health and local and international partners to implement integrated HIV/AIDS clinical and preventive services and systems; develop and strengthen laboratory services; and provide epidemiologic science, informatics, and research support to develop sustainable public health systems in resource-constrained countries. DGHT: (1) Provides leadership, management, and services to DGHT country offices; (2) implements integrated evidence-based prevention, care, and treatment programs and services; (3) evaluates program costs, cost effectiveness and impact to assist with prioritization, inform program planning, and appropriate rates of program expansion, and strengthens capacity for sustainable, high quality research and service implementation to indigenous partners and Ministries of Health; (4) builds sustainable public health capacity in laboratory services and systems; (5) ensures epidemiologic and scientific excellence in HIV/AIDS programs; (6) contributes to the broader scientific body of knowledge in global public health by systematically evaluating the scope and quality of global HIV/AIDS and TB programs; (7) implements operations and effectiveness research to inform the design of current and future programs as well as optimize allocation of human and financial resources; (8) strengthens in-country capacity to design and implement HIV/AIDS surveillance systems and surveys; (9) builds host government public health management capacity and trains in-country public heath workforce with the goal of long-term program sustainability; (10) supports host government capacity to monitor and evaluate the process, outcome, and impact of HIV prevention, care, and treatment programs; and (11) helps countries respond to public health emergencies, assisting in response planning and implementation with Ministries of Health and other international partners.

Office of the Director (CWG1). (1) Provides strategic leadership, guidance, management and oversight to all DGHT programs and ensures coordination and communication across its branches and with other CDC programs including CDC/Washington; U.S. Government (USG) agencies, including the Department of Health and Human Services (HHS), the United States Agency for International Development (USAID), and Department of State (DoS); and other international organizations; (2) plans, implements, and oversees all field programs along with other USG agencies; (3) provides oversight, leadership, and strategic guidance for the management of DGHT country/program directors and country offices for all matters of daily operation, including management of global workforce staff; (4) provides leadership and guidance on policy development and interpretation, budget formulation, program planning, issues management, management and operations, and evaluation; (5) provides leadership and oversight for the development of communication materials and dissemination strategies to share best practices through media, partners, and other audiences to strengthen the public health response; (6) oversees identification of opportunities for leveraging and enhancing partnerships for public health protection and synergies with other Agency programs and partners; (7) oversees DGHT management and operations services in coordination with appropriate CDC staff offices, including processing travel and assisting with accountability and management of HHS/CDC property, facilities, and equipment; (8) oversees timely and sufficient DGHT staff placement through recruitment, hiring, and orienting of qualified staff; (9) provides leadership to ensure retention of qualified staff by providing workforce management and career development services for DGHT staff; (10) oversees supports to ensure scientific excellence for all DGHT scientific, programmatic, and informational documents/materials which includes providing scientific review and clearance of manuscripts for publication, abstracts for presentation, and protocols for institutional review boards and human subjects review; (11) provides leadership and support for global public health evaluation and operational research to maximize the effectiveness and quality of global HIV/AIDS interventions to guide DGHT programs and policies; (12) establishes and implements standards for organizational excellence; (13) provides direct technical assistance and maintains relationships with host country partners, and responds to other health needs as required; (14) assures accountability of program funds and reports on progress; and (15) collaborates with other CDC and HHS programs and offices; other USG agencies; and other national and international organizations.

International Laboratory Branch (CWGB). (1) Serves as a reference laboratory that provides guidance on quality assurance, continuous quality improvement, certification and accreditation for international laboratory and point of care testing (POCT) sites; (2) provides technical assistance to country programs in the areas of laboratory information systems, laboratory systems, and linkages throughout the diagnostic cascade; (3) provides training packages, training, guidance, and support to host nations, other USG agencies and international and national partners on HIV, tuberculosis (TB), Sexually Transmitted Infection (STI), and opportunistic infection (OI) diagnostics and monitoring techniques; HIV incidence testing; hematology; clinical chemistry; CD4; TB diagnostic and treatment monitoring testing; anti-tuberculosis drug susceptibility testing (DST) ; antiretroviral treatment (ART) resistance testing; dried blood spot polymerase chain reaction for early infant diagnosis; viral load monitoring; and ensuring the quality of laboratories and testing activities; (4) serves as a training center of excellence for HIV/TB/STI diagnostics for international sites; (5) provides laboratory assistance to international surveillance activities to monitor trends of HIV prevalence and incidence; (6) provides technical assistance and quality assurance in support of and TB prevalence and drug resistance surveys (6) assists in the surveillance of HIV subtypes in the overall context of supporting sero-surveillance programs; (7) assists in the surveillance and evaluation of HIV drug resistance as part of antiretroviral care and treatment programs; (8) serves as a reference laboratory for the World Health Organization (WHO)-CDC HIV drug resistance network and as a WHO Supranational TB Reference Laboratory (8) develops strategies and methodologies to meet the clinical and diagnostic needs of HIV/AIDS and TB programs; (9) assists in the evaluation and validation of serologic and nucleic acid assays for measurement of HIV incidence to enable evaluation of effectiveness of prevention programs; evaluates performance of new assays and platforms for HIV and TB diagnosis and treatment monitoring; (11) develops comprehensive testing algorithms for HIV diagnosis; (12) provides technical guidance on introduction of new TB diagnostic tests and algorithms; (13) contributes to operational research to maximize the effectiveness and quality of global HIV/AIDS and TB interventions to guide Division, Agency, and PEPFAR programs and policies; (14) conducts laboratory capacity assessments and assists in development of infrastructure for effective implementation of programs in countries where DGHT operates; (15) provides laboratory guidance and support on national strategic planning and quality management of tiered laboratory systems in host nations and consults on all technical aspects of laboratory procurement, standardization, quality control and quality assurance; (16) works with international accrediting organizations to establish guidance, training, and tools for accreditation of laboratory systems in resource-poor settings; (17) supports ongoing collaboration with international laboratory experts and national and regional laboratory personnel to resolve technical issues and develops international tools, guidelines, curriculum and other resources to improve laboratory capacity in host nations; (18) develops and implements strategies to expand the laboratory health workforce and increase human capacity of host government public health programs to strengthen and ensure sustainable, integrated public health responses to HIV/AIDS and TB; (19) promotes a transition toward greater sustainability of laboratory systems through the support of country-driven efforts; (20) establishes strategic Public Private Partnerships for strengthening laboratory systems, training, development of referral systems for transporting samples, and quality management schemes; (19) ensures scientific excellence for all branch manuscripts, protocols, and programs in collaboration with the DGHT Office of the Director (OD) science office; (21) contributes to the greater body of scientific knowledge through the presentation of laboratory operational research findings at conferences and through publications in peer reviewed journals; and (22) collaborates with other DGHT branches; other CDC (e.g., DTBE, DGHP) and HHS programs and offices; other USG agencies; and other national and international organizations.

HIV Prevention Branch (CWGC). (1) Provides technical assistance and builds capacity to implement, improve, and maximize effectiveness of HIV prevention programs; (2) provides technical assistance for scale-up of prevention interventions and linkage to HIV clinical services; (3) helps to develop, expand, and evaluate HIV testing and counseling programs in both clinical and community settings to assure that all persons know their HIV status; (4) assists in implementing, and monitoring the quality and impact of programs for linking HIV infected persons to health services for HIV care and treatment; (5) helps strengthen, expand, and make accessible programs to access key populations and to link HIV infected persons to prevention, care, and treatment programs; (6) assists in tailoring HIV prevention programs to meet the special needs of youth, drug-using populations, and other key populations; (7) assists in safe and effective implementation of biomedical interventions, including the scale-up of medical male circumcision; (8) provides technical assistance to PEPFAR partner countries to assure availability of safe blood by attaining blood center accreditation, quality assurance for blood bank laboratories, and appropriate health information systems for blood services; (9) supports global surveillance systems for transfusion- and injection-associated HIV transmission and the transmission of other blood-borne pathogens of public health importance; (10) conducts investigations and supports the development of surveillance systems to track medical injection use and misuse and provides technical assistance to countries to reduce demand for medical injections; (11) contributes to operational research to maximize the effectiveness and quality of global HIV/AIDS prevention interventions to guide programs and policies; (12) establishes strategic Public Private Partnerships to build capacity for and maximize effectiveness of HIV prevention programs in host countries; (13) ensures scientific excellence for all branch manuscripts, protocols, and programs in collaboration with the DGHT OD science office; and (14) collaborates with other DGHT branches, CDC and HHS programs and offices, USG agencies, and national and international organizations.

HIV Care and Treatment Branch (CWGD). (1) Provides technical assistance and builds capacity in developing and implementing sustainable care and treatment programs for persons with HIV/AIDS. This includes diagnosis, linkage to care, and care and treatment services for HIV/AIDS, HIV-related tuberculosis, other opportunistic infections, and opportunistic cancers; (2) assists countries to achieve the 90-90-90 goals articulated by UNAIDS and by PEPFAR 3.0; (3) provides technical expertise and support to country programs, partners, and Ministries of Health in planning, implementing, and evaluating effective strategies for care and treatment of persons with HIV; (4) provides HIV care and treatment expertise to country programs, partners, and Ministries of Health on management, standard operating procedures, human resources, physical infrastructure, training, drug and health commodities management, laboratory services, monitoring and evaluation, community services, linkage between HIV and other programs, promotion of prevention, and sustainability; (5) provides support for continuous quality improvement of HIV care and treatment programs; (6) promotes appropriate integration of services, including HIV prevention interventions into clinical care and treatment settings and HIV services into general medical services; (7) conducts operational research in collaboration with country programs to identify best practices, address barriers, and respond to emerging scientific issues related to HIV care and treatment service delivery; (8) collaborates with international partners to synthesize the scientific body of knowledge on HIV care and treatment, including TB/HIV co-infection; (9) collaborates with international partners to develop and disseminate tools (e.g., protocols and training curricula), guidelines and policies; (10) supports analysis of program costs and cost-effectiveness to assist with prioritization, inform program planning, and determine appropriate rates of program expansion; (11) supports capacity building of host countries to transition responsibility for implementation of HIV care and treatment services to indigenous partners and Ministries of Health, with result of increasing ownership, sustainability and service delivery cost efficiencies; (12) establishes strategic Public Private Partnerships aimed at augmenting capacity for developing and implementing sustainable care and treatment programs, including diagnosis, linkage to care, and care and treatment services for HIV/AIDS, HIV-related tuberculosis, other opportunistic infections, and opportunistic cancers; (13) ensures scientific excellence for all branch Manuscripts, protocols, and programs in collaboration with the DGHT OD science office; and (14) collaborates with other DGHT branches; other CDC and HHS programs and offices; other USG agencies; and other national and international organizations.

Maternal and Child Health Branch (CWGE). (1) Supports the international scale-up of comprehensive, quality prevention of mother-to-child HIV transmission (PMTCT) and pediatric (Peds) programs by developing adaptable training tools, utilizing operational research to identify and implement models of service delivery adapted to district, regional, sub-national and national contexts; (2) provides technical expertise and support to countries in planning, implementing, and evaluating effective strategies for scaling up of sustainable programs for the prevention, diagnosis, and treatment of HIV/AIDS, tuberculosis, and other opportunistic infections in women, infants, and children, including linking PMTCT/Peds HIV programs with HIV clinical and preventive services and other maternal and child health settings/contexts; (3) builds national capacity for and provides guidance on development of policy for formulations for and access to appropriate long-term combination ART for HIV-infected children; (4) conducts operational research in collaboration with country programs to promote best practices, address barriers, and respond to emerging scientific issues for PMTCT/Peds HIV service delivery; (5) collaborates with international partners to contribute to the scientific body of knowledge on global PMTCT/Peds and broader maternal and child health issues and to develop and disseminate tools, guidelines, and policies to translate research for improved program implementation in resource-constrained countries; (6) provides support for continuous quality improvement of PMTCT and Peds HIV care and treatment programs, including those within broader maternal and child health programs; (7) supports analysis of program costs and cost-effectiveness to assist with prioritization, inform program planning, and determine appropriate rates of program expansion; (8) acts as a key part of a broader CDC strategic response to address health needs and gender-related issues of maternal and child health worldwide, supporting a comprehensive, multidisciplinary approach to building maternal and child health services and systems capacity in host countries; (9) establishes strategic public private partnerships for HIV maternal and child health services and systems capacity in host countries; (10) ensures scientific excellence for all branch manuscripts, protocols, and programs in collaboration with the DGHT OD science office; and (11) collaborates with other DGHT branches; other CDC and HHS programs and offices; other USG agencies; and other national and international organizations.

Epidemiology and Surveillance Branch (CWGG). (1) Builds the capacity of countries to develop and/or enhance HIV-related surveillance systems and use the results of surveillance systems and surveys for impact monitoring, program planning, and HIV policy-making; (2) implements and evaluates novel approaches for conducting surveillance and surveys including small area estimation of HIV prevalence and key population size estimation; (3) provides capacity-building technical assistance for in-country HIV-related epidemiologic investigations; (4) supports surveys and surveillance systems that measure HIV-related behaviors, HIV prevalence and incidence, uptake of HIV related services, clinical outcomes, and health status among the general population and at-risk populations; (5) develops normative guidance to improve the collection and analysis of HIV surveillance data including morbidity and mortality; (6) assists and provides technical expertise and training on collection, analysis, interpretation, dissemination, and use of HIV surveillance data; (7) assists and strengthens capacity of host country governments and organizations to assess and ensure the quality of the data collected in HIV-related surveillance systems and clinic-based HIV data systems; (8) coordinates, oversees, or assists in the formulation of HIV surveillance related funding/budgets and in the execution of a variety of acquisition and assistance awards; (9) ensures scientific excellence for relevant manuscripts, protocols, and programs in collaboration with the DGHT OD science office; and (10) collaborates with other DGHT branches, other CDC and HHS programs and offices, other USG agencies, and other national and international organizations as appropriate.

Economics and Health Services Research Branch (CWGH). (1) Identifies priority information needs for program planning, resource allocation, efficiency and program integration, and develops economic analysis and operational research activities; (2) implements economic studies, including cost and cost-effectiveness studies, and applies advanced modeling techniques to inform and optimize global health planning, policy and programs, and provide a broader understanding of the effects of health programs on improving economic and other non-health outcomes; (3) supports USG efforts in projecting financing needs to efficiently meet program targets in areas of prevention, care and treatment, and human resources for health (HRH); (4) guides development and implementation of monitoring systems to routinely capture program expenditure data to support planning, accountability and efficient programming; (5) trains and mentors partner country personnel in the methods and application of economic analysis of global health programs and policy; (6) provides technical input, guidance, review and implementation support to operational research on and evaluation of global HIV/AIDS activities; (7) provides technical input on the development of partner country health finance systems and capacity to develop sustainable and accountable programs, and assists in the implementation of national AIDS spending assessment activities; (8) implements and provides technical guidance on HIV/AIDS resource tracking exercises and monitoring of HIV/AIDS spending; (9) assesses financial flows and bottlenecks to financing service delivery of HIV/AIDS interventions in order to improve efficient use and allocation of funds; (10) works with health and budget officials to further understanding of issues with a view to improving and sustaining the HIV program as well as improving communication between Ministries of Health and Finance; (11) strengthens the capacity of in-country counterparts of HIV financing, sustainability, and public financial management concepts and practices; (12) develop, models, and analyzes the HIV/AIDS investment and assess the direct impact and broader macroeconomic impacts of the HIV/AIDS investment; (13) participates in USG interagency technical working groups and provides technical leadership to address HIV/AIDS economics and finance, Health Systems Strengthening (HSS), and HRH issues and initiatives; (13) provides technical support for the routine monitoring of health-related governance including financial accountability, programmatic transparency, policy development and enforcement, and engagement and regulation of the private health sector, including the Global Fund to Fight AIDS, Tuberculosis, and Malaria; (14) develops the HSS operational research agenda for DGHT and implements public health evaluations related to health systems; (15) provides broad HSS technical assistance and support to USG in-country teams and host countries to improve the delivery of HIV and other health services and work toward transition to country ownership of program; (16) supports branches in strengthening health systems, developing metrics to assess DGHT's contribution to HSS and implementing monitoring systems to routinely collect DGHT's health system impact, especially in the areas of laboratory systems, maternal child health services, HIV care and treatment service delivery, blood safety programs, and prevention services; (17) helps define CDC's role and identify priority needs for strengthening HRH to support sustainability of HIV programs; (18) provides HRH technical assistance and other support to plan and meet priority HRH needs, including pre-service and in- service training, task-shifting, capacity-building of accreditation and credentialing bodies, HRH planning and management, workplace performance and safety, quality of nursing and midwifery staffing in HIV service delivery, and the development of human resource information systems and their use in health decision-making; (19) conducts monitoring and evaluation of US-supported HRH activities, to help inform U.S. resource and program decision-making; (20) conducts policy analysis and generate evidence to enact evidence-based laws and policies for the sustainable scale-up of the HIV/AIDS response in U.S. supported HIV/AIDS programs; (21) supports operational research activities and public health evaluations that address current HRH questions and monitoring needs; (22) ensures scientific excellence for all branch manuscripts, protocols, and programs in collaboration with the DGHT OD science office; and (23) collaborates with other DGHT branches other CDC and HHS programs and offices, other USG agencies, and other national and international organizations.

Overseas Strategy and Management Branch (CWGJ). (1) Provides and coordinates support to facilitate effective design and delivery of global HIV and TB activities in DGHT country programs in the areas of program strategy and implementation, program monitoring and evaluation, health diplomacy, fiscal management, procurement, personnel, extramural programs, and other domains; (2) serves as the official and overarching linkage between DGHT overseas offices and CDC, including DGHT OD and other DGHT Branches, components of CGH other than DGHT, and other relevant offices of CDC, HHS, and USG; (3) recruits, hires, and supervises DGHT program directors, and plays a major role in those same functions for DGHT Program Deputy Directors; (4) coordinates the hiring of all US Direct Hire (USDH) employees to DGHT overseas positions, and manages their pre-deployment training, preparation, and orientation to those critical positions; (5) facilitates and provides as needed short- and long-term consultation, technical assistance, and backstopping for program issues to DGHT country offices; (6) manages the Country Office Management and Accountability System (CMAS), a principal DGHT process for accountability across a multiple core functions for performance; (7) provides long-term management and operations support for smaller DGHT overseas offices; and (8) serves as the CDC representative on interagency country support teams for the President's Emergency Plan for AIDS Relief.

Program Budget and Extramural Management Branch (CWGK) (1) Coordinates all DGHT procurement and extramural activities in creating spend plans in compliance with federal appropriations law, congressional intent, and global HIV/AIDS policies; (2) facilitates and manages the development, clearance, and award of all new and ongoing DGHT headquarters and field grants, cooperative agreements, and contracts; (3) provides technical assistance and guidance to the countries and branches on budget and extramural issues including assisting programs in determining the appropriate funding mechanism to support global HIV/AIDS activities; (4) provides training and tools to DGHT country programs to improve budget and cooperative agreement management; (5) manages DGHT headquarters budget and tracks overall DGHT budget, which includes conducting budget planning exercises and managing the annual close-out process; (6) provides funding and budgetary data for regular reports including the Headquarters Operational Plan, GAO and IG audits, country Annual Program Results to OGC, and other requests for data; (8) reviews and provides input on budgetary and procurement policy-related documents; (9) liaises and collaborates, as appropriate, with the DGHT Associate Director for Science, other financial and procurement-related units and offices including Office of Financial Management, as well as other CDC and HHS offices, OGC, and other USG agencies; and (10) collaborates with other DGHT branches; other CDC and HHS programs and offices; other USG agencies; and other national and international organizations.

Global Tuberculosis Prevention and Control Branch (CWGL). (1) Provides technical assistance and builds capacity in developing and implementing sustainable comprehensive global TB prevention and control programs. This includes prevention, diagnosis, and treatment services for TB, HIV/AIDS and other opportunistic infections; (2) coordinates Division and center international TB activities; (3) coordinates the assessment of immigration and its impact on TB patterns in the U.S. and assists with the evaluation of overseas TB screening procedures for immigrants and refugees; (4) conducts and coordinates operational research and demonstrations to improve both the overseas screening for tuberculosis of immigrants and refugees and the domestic follow-up of those entering with suspected TB (done in collaboration with other CIOs); (5) collaborates with WHO, the World Bank, IUATLD, USAID, and others to improve the quality of TB programs globally by supporting implementation of the WHO-recommended directly observed therapy, short-course strategy; (6) collaborates with the nation of Botswana, WHO, the World Bank, IUATLD, USAID, and others, to conduct investigations into the diagnosis, management, and prevention of tuberculosis in persons with and without HIV infection; (7) provides technical expertise and support in addressing the AIDS pandemic in countries where both HIV and TB are reported in epidemic proportions; (8) collaborates with WHO, USAID, and several nations to reduce the impact of multi-drug resistant TB on global TB control; (9) prepares manuscripts for publication in scientific journals; (10) presents findings at national and international scientific meetings; (11) supervises Epidemic Intelligence Service Officers (EIS) in the conduct of their two year assignments; and (12) presents international and operational research findings to Advisory Council for the Elimination of Tuberculosis (ACET) and national and international scientific meetings.

Science Integrity Branch (CWGM). (1) Serves as the principal advisor on standards related to scientific activities and human subjects protection within DGHA, supporting headquarters and country programs; (2) ensures scientific excellence in DGHA scientific documents disseminated to the public by coordinating scientific review of manuscripts for publication, abstracts for presentation, and study protocols; (3) provides coordination and support for implementation science (operational research) to maximize the effectiveness and quality of global HIV/AIDS interventions; (4) conducts regulatory and ethical reviews for activities involving human participants; (5) reviews funded activities for application of human research regulations; (6) provides oversight for DGHA implementation science-related workgroups; (7) encourages internal and external scientific collaborations and partnerships; (8) ensures compliance with good clinical and laboratory practices (GCP and GCLP); and (9) provides training to support science quality and integrity at headquarters and in country programs.

Management and Operations Branch (CWGN). (1) In coordination with appropriate CDC and CGH staff offices provides oversight, guidance and accountability for all administrative functions, domestic and international travel, human resources, and management of equipment, property and facilities; (2) develops and implements administrative policies, procedures and operations as appropriate for the Division; and prepares special reports and studies as required in the administrative management area; (3) provides leadership and guidance in all matters of daily operation, including recruitment, retention and management of a diverse, multi-disciplinary global workforce staff; (4) ensures timely and sufficient DGHT domestic staff placement through recruitment, hiring, and orienting of qualified staff; (5) ensures retention of qualified staff by providing workforce management and career development services for DGHT domestic staff; (6) ensures the full implementation and utilization of agency wide administrative systems and processes in support of Division management and operations.

Strategy, Policy, and Communications Branch (CWGP). (1) Provides leadership and strategic direction for the Division in determining CDC's global HIV and tuberculosis (TB) objectives and priorities; (2) provides policy direction for the Division on sensitive or controversial issues impacting CDC's global HIV and TB policies and programs; (3) provides guidance to top agency officials on strategies necessary to communicate and maximize acceptance of the agency's positions on issues; (4) provides leadership and guidance on policy development and interpretation, budget formulation, and issues management; (5) communicates, through all relevant forms of media, the Division's program priorities, accomplishments, and value to both internal and external stakeholders; (6) leads and facilitates the Division's external relations with key non-governmental partners, faith-based partners, community-based partners, international partners and other constituencies; and (7) facilitates the Division's efforts to work closely with multilateral partners to continually improve joint planning, data use, and strategic alignment to maximize impact in the fight against HIV/AIDS globally.

Special Initiatives Branch (CWGQ). (1) Supports key leadership in assessing issues, identifying mitigation options, managing resolutions, coordinating DGHT responses to complex issues; (2) convenes relevant CDC SMEs to facilitate quick resolution of critical and complex concerns; (3) assures coordination across DGHT branches, horizontal and vertical, and with other relevant CDC organizations units in response to priority issues as needed; (4) convenes relevant CDC SMEs to conceive, define and develop concept notes which describe new Global HIV/AIDS special initiatives addressing program and/or operations issues; (5) communicates findings and status of current and ongoing priority issues resolution with DGHT Director and senior leadership on a timely basis; (6) initiates foundation documents (task trackers, scopes of work, list of working group participants, reporting platforms) for priority initiatives requiring cross branch collaboration; (7) investigates options for preventing or early detection of emerging issues that impact on effective/efficient use of resources; and (8) directs DGHT external assignees (both domestic and international) to assure DGHT HIV/AIDS expertise and technical assistance is provided to external partners effectively and efficiently while also assuring CDC directly learns and benefits from these partnerships with other organizations.

Health Informatics, Data Management, and Statistics Branch (CWGR). (1) Provides leadership and technical expertise to DGHT, agency, other US government agency, multilateral organizations, and implementing partners in the development, dissemination, and implementation of information system, data management, analytic, and statistical standards, guidance, methods and solutions; (2) provides specialized expertise in health information systems, data management, data analytics and statistics across the life cycle of HIV implementation science, evaluation, and research projects, including expertise study design, sample design and sample size estimation, questionnaire development, information system design and development, data capture, management, monitoring and use, statistical analysis, report and manuscript writing, and data documentation, archival and dissemination; (3) provides specialized expertise in information systems, data management and statistics to DGHT-supported and other HIV surveillance and survey systems and activities to promote better understanding of HIV epidemics and HIV program outcomes and impact; (4) assures statistical, data management, and analytic integrity of DGHT and other global HIV activities and projects through technical review of concepts, protocols, reports, manuscripts and other products; (5) provides leadership and statistical expertise to agency and other US government agencies, multilateral organizations to promote statistical innovation and advance novel approaches in the analysis and modeling of HIV epidemics and evaluation of HIV programs; (6) collaborates with DGHT branches and country offices, host country governments and implementing partners to develop efficient and sustainable approaches to improve the use of national routine health information systems for program monitoring and improvement; (7) provides technical support to DGHT, agency, and interagency global HIV initiatives to strengthen capacity to collect, exchange, access, manage, analyze, use, and release HIV-related data to inform decisions to allocate resources and strengthen programs, including the advancement of innovative techniques and the appropriate use of technology; (8) collaborates with CGH in assuring that DGHT-sponsored information systems comply with all legislatively mandated requirements, including information systems security, capital planning, and reporting requirements; (9) builds global capacity for efficient and sustainable data management and health information system design, implementation, and use, by promoting, supporting and training a DGHT-led community of practice who identify and promote best practices and identify key competencies and curricula needed to advance data management and health information systems; (10) builds and maintains an enterprise performance monitoring data warehouse and engages in technical partnerships with DGHT regional and country offices to apply appropriate data management and analytic methodology to data systems for performance monitoring, accountability, and impact; (11) assures robust, cost effective and sustainable data management and information system infrastructure and methodologies for global HIV projects, by providing reviews of program and research data management plans, disseminating guidelines and policy for data management standards, and, where appropriate, monitoring for adherence to standards and guidelines; (12) advises about the resources needed to execute health information system, data management, analytic, and statistical functions, including human resources, staffing plans, and extramural activities; (13) supports the integration of HIV data into more comprehensive health information systems, the development of comprehensive health information systems, the development of metrics for monitoring and evaluating the implementation and functioning of health information systems; (14) provides technical assistance to DGHT regional and country offices and host national governments to strengthen health information systems, including strategic planning, systems needs assessments, identifying and resolving gaps, describing data standards and data exchange needed across systems, and developing standards for system interoperability; and (15) collaborates with agency, interagency and multilateral organizations to develop standards, tools, and guidance to improve the secure collection and use of HIV associated data, including guidance and tools to improve standardized definitions for HIV-related data, open source tools for the implementation of patient and program monitoring systems; security and confidentiality guidance for HIV data; and guidance on unique identification and matching of patient data across information systems.

Monitoring, Evaluation, and Data Analysis Branch (CWGS). (1) Develops, implements and evaluates standard and novel approaches to program monitoring and evaluation of inputs, outputs, outcomes and impacts for facility- and community-based HIV/AIDS programs, appropriate to the level and type of US government support; (2) provides support and technical expertise at all stages of evaluation, including process and outcome, using quantitative, qualitative and mixed methods in global HIV/AIDS and TB programs; (3) promotes and supports agency and extramural program performance and accountability outcome measurement; (4) assists in and provides training to improve HIV/AIDS program monitoring and evaluation, including site-based service and data quality assessments, M&E systems assessment, and data visualization, analysis and use for program improvement; (5) provides support and technical expertise to US agency collaborations, in-country teams and multinational partners to monitor and evaluate the outputs, outcomes, and impact of US supported global HIV/AIDS activities; (6) develops, implements and supports innovative analytical approaches integrating multiple sources of data and in using the results for impact monitoring, planning, and HIV/AIDS policy-making; (7) supports and strengthens global and country capacity to monitor and evaluate HIV/AIDS prevention, care, treatment programs, health system strengthening, other related global health programs, and health systems through the development of standards, guidelines, curricula, and other tools; (8) coordinates, oversees, or assists in the formulation of M&E funding/budgets and in the execution of extramural awards; and (9) collaborates with other DGHT branches, other CDC and HHS programs and offices, other USG agencies, and other national and international organizations.

James Seligman,
Acting Chief Operating Officer, Centers for Disease Control and Prevention.

[FR Doc. 2015-30968 Filed 12-8-15; 8:45 am]

BILLING CODE 4160-18-P